DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security.

Title: National Security and Critical Technology Assessment of the U.S. Industrial Base.

Agency Form Number: N/A.

OMB Approval Number: 0694-0119.

Type of Request: Extension of a currently approved collection of information.

Burden: 24,000 hours.

Average Time Per Response: 4 hours per response.

Number of Respondents: 6,000 respondents.

Needs and Uses: The Department of Commerce/BIS, in coordination with other government agencies and private entities, conduct assessments of U.S. industries deemed critical to our national security. The information gathered is needed to assess the health and competitiveness as well as the needs of the targeted industry sector in order to maintain a strong U.S. industrial base. Data obtained from the surveys will be used to prepare an assessment of the current status of the targeted industry, addressing production, technological developments, economic performance, employment and academic trends, and international competitiveness.

Affected Public: Individuals, businesses or other for-profit institutions.

Respondent's Obligation: Voluntary.

OMB Desk Officer: David Rostker, 202-395-3897.

Copies of the above information collection proposal can be obtained by calling or writing Madeleine Clayton, Departmental Paperwork Clearance Officer, (202) 482-3129, Department of Commerce, Room 6608, 14th and Constitution Avenue, NW., Washington, DC 20230.

Written comments and recommendations for the proposed information collection should be sent within 30 days of publication of this notice to David Rostker, OMB Desk Officer, Room 10202, New Executive Office Building, Washington, DC 20230.

Dated: August 22, 2002.
Madeleine Clayton,
Departmental Forms Clearance Officer, Office of the Chief Information Officer.

[FR Doc. 02-21814 Filed 8-27-02; 8:45 am]

BILLING CODE 3510-JT-P